DEPARTMENT OF COMMERCE

International Trade Administration

[A-570-970]

Multilayered Wood Flooring From the People's Republic of China: Initiation of Antidumping Duty New Shipper Review; 2017-2018

AGENCY: Enforcement and Compliance, International Trade Administration, Department of Commerce.

SUMMARY: The Department of Commerce (Commerce) has determined that a request for a new shipper review (NSR) of the antidumping duty order on multilayered wood flooring from the People's Republic of China (China) meets the statutory and regulatory requirements for initiation. The period of review (POR) for this new shipper review is December 1, 2017, through November 30, 2018.

DATES: Applicable March 15, 2019.

FOR FURTHER INFORMATION CONTACT: William Horn or Alexis Cherry, AD/CVD Operations, Office VIII, Enforcement and Compliance, International Trade Administration, U.S. Department of Commerce, 1401 Constitution Avenue NW, Washington, DC 20230; telephone: (202) 482-4868 or (202) 482-0607, respectively.

SUPPLEMENTARY INFORMATION:

Background

Commerce published the antidumping duty order on multilayered wood flooring from China on December 8, 2011.¹ On December 19, 2018, Commerce received a timely NSR request from Muchsee Wood (Chuzhou) Co., Ltd. (Muchsee Wood) in accordance with section 751(a)(2)(B)(i) of the Tariff Act of 1930, as amended (the Act), and 19 CFR 351.214(c).² Commerce exercised its discretion to toll all deadlines affected by the partial federal government closure from December 22, 2018, through the resumption of operations on January 29, 2019. If the new deadline falls on a non-business day, in accordance with Commerce's practice, the deadline will become the next business day.³ The revised deadline for the NSR initiation decision is now March 12, 2019.

¹ See Multilayered Wood Flooring from the People's Republic of China: Amended Final Determination of Sales at Less Than Fair Value and Antidumping Duty Order, 76 FR 76690 (December 8, 2011), as amended in Multilayered Wood Flooring from the People's Republic of China: Amended Antidumping and Countervailing Duty Orders, 77 FR 5484 (February 3, 2012) (Order).

² See Muchsee Wood's Letter, “Multilayered Wood Flooring from the People's Republic of China: Request for New Shipper Review,” dated December 19, 2018 (Muchsee Initiation Request).

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

In its submission, Muchsee Wood certified that it is both the producer and exporter of the subject merchandise upon which the NSR request is based.⁴ Pursuant to section 751(a)(2)(B)(i)(I) of the Act and 19 CFR 351.214(b)(2)(i), Muchsee Wood certified that it did not export multilayered wood flooring to the United States during the period of investigation (POI).⁵ In addition, pursuant to section 751(a)(2)(B)(i)(II) of the Act and 19 CFR 351.214(b)(2)(iii)(A), Muchsee Wood certified that, since the initiation of the investigation, it has never been affiliated with any producer or exporter that exported multilayered wood flooring to the United States during the POI, including those not individually examined during the investigation.⁶ As required by 19 CFR 351.214(b)(2)(iii)(B), Muchsee Wood also certified that its export activities were not controlled by the Government of China.⁷ Muchsee Wood additionally certified that it has had no subsequent shipments of subject merchandise.⁸

⁴ See Muchsee Initiation Request at 2.

⁵ Id at Exhibit 2.

⁶ Id.

⁷ Id.

⁸ Id. at 3.

In addition to the certifications described above, pursuant to 19 CFR 351.214(b)(2)(iv), Muchsee Wood submitted documentation establishing the following: (1) The date on which the company first shipped multilayered wood flooring for export to the United States and the date on which the multilayered wood flooring was first entered, or withdrawn from warehouse, for consumption; (2) the volume of its first shipment; and (3) the date of its first sale to an unaffiliated customer in the United States.⁹

⁹ Id. at Exhibit 1.

Commerce conducted a query of the U.S. Customs and Border Protection (CBP) database and confirmed that Muchsee Wood's shipment of subject merchandise had entered the United States for consumption and that liquidation of such entries had been properly suspended for antidumping duties. The information which Commerce examined was consistent with that provided by Muchsee Wood in its request. In particular, the CBP data confirmed the price and quantity reported by Muchsee Wood for the sale that forms the basis of this NSR request. Commerce also confirmed by examining CBP data that Muchsee Wood's entries were made during the POR specified by Commerce's regulations.¹⁰

¹⁰ See Memorandum to the File, “U.S. Customs and Border Protection Data” for Muchsee Wood,” dated concurrently with this notice; see also Memorandum to the File, “Initiation of Antidumping New Shipper Review of Multilayered Wood Flooring from the People's Republic of China: Muchsee Wood (Chuzhou) Co., Ltd. Initiation Checklist” (“Muchsee Wood Initiation Checklist”), dated concurrently with this notice.

On February 26, 2019, the petitioner, the American Manufacturers of Multilayered Wood Flooring (AMMWF), filed new factual information in response to Muchsee Wood's request for an NSR.¹¹ Commerce accepted the petitioner's submission and established a timeline for interested parties to submit new factual information to rebut, clarify, or correct the information in the petitioner's submission.¹² On March 8, 2019, Muchsee Wood timely submitted rebuttal information regarding its sale to an unaffiliated U.S. customer during the proposed POR. Because this new factual information and rebuttal information were filed so close in time to the March 12, 2019, deadline to initiate the NSR, there was insufficient time to perform the necessary analysis; therefore, Commerce will evaluate this information during the course of the review.

¹¹ See Letter from Petitioner, “Multilayered Wood Flooring From the People's Republic of China: Comments on Muchsee Wood's Request for New Shipper Review,” dated February 26, 2019.

¹² See Memorandum to the File, “Timeline to Rebut Factual Information for Muchsee Wood (Chuzhou) Co., Ltd.,” dated March 1, 2019.

Period of Review

Pursuant to 19 CFR 351.214(c), an exporter or producer may request an NSR within one year of the date on which its subject merchandise was first entered. Muchsee Wood requested this NSR within one year of the date on which its multilayered wood flooring was first entered, and made its request in the month of December, which is the anniversary month of the Order. In accordance with 19 CFR 351.214(g)(1)(i)(A), the POR is December 1, 2017, through November 30, 2018.

Initiation of New Shipper Review

Pursuant to section 751(a)(2)(B) of the Act, 19 CFR 351.214(b), and the information on the record, Commerce finds that Muchsee Wood's request meets the threshold requirements for initiation of a NSR and is therefore initiating an NSR of Muchsee Wood.¹³ However, if the information supplied by Muchsee Wood is later found to be incorrect or insufficient during the course of this proceeding, Commerce may rescind the review or apply adverse facts available pursuant to section 776 of the Act, depending upon the facts on record. Commerce intends to issue the preliminary results within 180 days from the date of initiation, and the final results within 90 days from the issuance of the preliminary results.¹⁴

¹³ See Muchsee Wood Initiation Checklist.

¹⁴ See section 751(a)(2)(B)(iii) of the Act and 19 CFR 351.214(i).

It is our usual practice, in cases involving non-market economies, to require that a company seeking to establish eligibility for an antidumping duty rate separate from the country-wide rate (i.e., a separate rate) provide evidence of de jure and de facto absence of government control over the company's export activities.¹⁵ Accordingly, Commerce will issue questionnaires to Muchsee Wood that will include a section requesting information with regard to the company's export activities for the purpose of establishing its eligibility for a separate rate. The review will proceed if the response provides sufficient indication that Muchsee Wood is not subject to either de jure or de facto government control with respect to its exports of subject merchandise.

¹⁵ See Import Administration Policy Bulletin, Number: 05.1. (http://ia.ita.doc.gov/policy/bull05-1.pdf).

We will conduct this new shipper review in accordance with section 751(a)(2)(B) of the Act, as amended by the Trade Facilitation and Trade Enforcement Act of 2015.¹⁶

¹⁶ The Trade Facilitation and Trade Enforcement Act of 2015 removed from section 751(a)(2)(B) of the Act the provision directing Commerce to instruct Customs and Border Protection to allow an importer the option of posting a bond or security in lieu of a cash deposit during the pendency of a new shipper review.

Interested parties requiring access to proprietary information in this proceeding should submit applications for disclosure under administrative protective order in accordance with 19 CFR 351.305 and 19 CFR 351.306.

This initiation and notice are in accordance with section 751(a)(2)(B) of the Act and 19 CFR 351.214 and 19 CFR 351.221(c)(1)(i).

Dated: March 12, 2019.
Christian Marsh,
Deputy Assistant Secretary for Enforcement and Compliance.

[FR Doc. 2019-04880 Filed 3-14-19; 8:45 am]

BILLING CODE 3510-DS-P